DEPARTMENT OF LABOR

Employment and Training Administration

[TA-W-40,701]

Internet Arena, Portland, Oregon; Notice of Termination of Investigation

Pursuant to section 221 of the Trade Act of 1974, an investigation was initiated on January 28, 2002, in response to a petition filed on behalf of workers at Internet Arena, Portland, Oregon.

The petitioning group of workers submitting the petition has requested that the petition be withdrawn. Consequently, further investigation in this case would serve no purpose, and the investigation has been terminated.

Signed in Washington, DC this 4th day of April, 2002.
Linda G. Poole,
Certifying Officer, Division of Trade Adjustment Assistance.

[FR Doc. 02-9342 Filed 4-16-02; 8:45 am]

BILLING CODE 4510-30-M